DEPARTMENT OF TRANSPORTATION

Federal Aviation Administration

Twelfth Meeting: RTCA Special Committee 223, Airport Surface Wireless Communications

AGENCY: Federal Aviation Administration (FAA), U.S. Department of Transportation (DOT)

ACTION: Meeting Notice of RTCA Special Committee 223, Airport Surface Wireless Communications.

SUMMARY: The FAA is issuing this notice to advise the public of the meeting of the RTCA Special Committee 223, Airport Surface Wireless Communications.

DATES: The meeting will be held December 4-6, 2012, from 9:00 a.m.-5:00 p.m.

ADDRESSES: The meeting will be held at the Boeing, Building 2-25 Lobby, 7755 East Marginal Way South, Seattle, WA 98108.

FOR FURTHER INFORMATION CONTACT: The RTCA Secretariat, 1150 18th Street NW., Suite 910, Washington, DC, 20036, or by telephone at (202) 330-0662/(202) 833-9339, fax (202) 833-9434, or Web site at http://www.rtca.org.

SUPPLEMENTARY INFORMATION: Pursuant to section 10(a)(2) of the Federal Advisory Committee Act (Pub. L. No. 92-463, 5 U.S.C., App.), notice is hereby given for a meeting of Special Committee 223. The agenda will include the following:

Tuesday, December 4th—Thursday, December 6th, 2012

• Plenary

• Welcome, Introductions, Administrative Remarks by Special Committee Leadership

• Agenda Overview

• Review/Approve prior Plenary Meeting Summary and Action Item Status

• General Presentations of Interest

• ICAO WG-S Status

• EUROCAE WG-82 Status

• Detailed MOPS Review

• Establish Agenda, Date and Place for Next Plenary Meetings

• Review of Meeting Summary Report

• Adjourn-Plenary Meeting

Attendance is open to the interested public but limited to space availability. With the approval of the chairman, members of the public may present oral statements at the meeting. Persons wishing to present statements or obtain information should contact the person listed in the FOR FURTHER INFORMATION CONTACT section. Members of the public may present a written statement to the committee at any time.

Issued in Washington, DC, on November 8, 2012.
Richard F. Gonzalez,
Management Analyst, Business Operations Group, Federal Aviation Administration.

[FR Doc. 2012-28854 Filed 11-27-12; 8:45 am]

BILLING CODE 4910-13-P